DEPARTMENT OF ENERGY

[FE Docket No. 10-161-LNG; FE Docket No. 11-161-LNG]

Freeport LNG Expansion, L.P.FLNG Liquefaction, LLC, FLNG Liquefaction 2, LLC, and FLNG Liquefaction 3, LLC Statement Regarding Change in Control

AGENCY: Office of Fossil Energy, DOE.

ACTION: Notice of change in control.

SUMMARY: The Office of Fossil Energy (FE) of the Department of Energy (DOE) gives notice of receipt of a notice and statement regarding change in control, filed March 2, 2016 (Statement),¹ by Freeport LNG Expansion, L.P. (Freeport Expansion), FLNG Liquefaction, LLC (FLIQ1), FLNG Liquefaction 2, LLC (FLIQ2), and FLNG Liquefaction 3, LLC (FLIQ3) (collectively, FLEX). The Statement is intended to inform DOE/FE about a change in control of the upstream ownership of FLIQ1.² The Statement was filed under section 3 of the Natural Gas Act (NGA), 15 U.S.C. 717b.

¹ Freeport LNG Expansion, L.P., FLNG Liquefaction, LLC, FLNG Liquefaction 2, LLC, and FLNG Liquefaction 3, LLC, Notice and Statement of Change in Control, FE Docket Nos. 10-160-LNG, 10-161-LNG, 11-161-LNG, 12-06-LNG (Mar. 2, 2016).

² On September 23, 2014, DOE/FE granted an earlier FLEX request for a change in control of FLIQ1 and FLIQ2. Freeport LNG Expansion, L.P., et al., Order Approving Change in Control of Export Authorizations, DOE/FE Docket Nos. 14-005-CIC, 10-160-LNG, 10-161-LNG, 11-161-LNG, 12-06-LNG (Sept. 23, 2014).

DATES: Protests, motions to intervene or notices of intervention, as applicable, and written comments are to be filed using procedures detailed in the Public Comment Procedures section of this Notice no later than 4:30 p.m., Eastern time, June 10, 2016.

ADDRESSES:

Electronic Filing by email: fergas@hq.doe.gov.

Regular Mail: U.S. Department of Energy (FE-34), Office of Regulation and International Engagement, Office of Fossil Energy, P.O. Box 44375, Washington, DC 20026-4375.

Hand Delivery or Private Delivery Services (e.g., FedEx, UPS, etc.): U.S. Department of Energy (FE-34), Office of Regulation and International Engagement, Office of Fossil Energy, Forrestal Building, Room 3E-042, 1000 Independence Avenue SW., Washington, DC 20585.

FOR FURTHER INFORMATION CONTACT:

Larine Moore or Benjamin Nussdorf, U.S. Department of Energy (FE-34), Office of Regulation and International Engagement, Office of Fossil Energy, Forrestal Building, Room 3E-042, 1000 Independence Avenue SW., Washington, DC 20585, (202) 586-9478; (202) 586-7893.

Edward Myers, U.S. Department of Energy (GC-76), Office of the Assistant General Counsel for Electricity and Fossil Energy, Forrestal Building, 1000 Independence Avenue SW., Washington, DC 20585, (202) 586-3397.

SUPPLEMENTARY INFORMATION:

Summary of Change in Control

As noted above, the Statement is intended to inform DOE/FE about a change in control of the upstream ownership of FLIQ1. The Statement indicates that FLIQ1 is 100 percent owned by FLIQ1 Holdings, LLC (Holdings) and 25 percent of Holdings is owned by Osaka Gas Liquefaction USA Corporation, 25 percent by Chubu Electric Power Company Freeport, Inc., and 50 percent by Freeport LNG Expansion, L.P. The Statement does not propose to change these ownership stakes. However, the Statement proposes a change to the ownership of Chubu Electric Power Company Freeport, Inc. Whereas, prior to the change in control, 100 percent of Chubu Electric Power Company Freeport, Inc. was owned by Chubu Electric Power Company, after the change, Chubu Electric Power Company Freeport, Inc. will be 100 percent owned by a joint venture called JERA Co., Inc. In this regard, JERA Co., Inc. is 50 percent owned by Chubu Electric Power Company and 50 percent is owned by Tokyo Electric Power Fuel & Thermal Power Generation Business Split Preparation Company, Inc., a wholly owned subsidiary of Tokyo Electric Power Company, Incorporated. Additional details can be found in the Statement, posted on the DOE/FE Web site at http://energy.gov/sites/prod/files/2016/03/f30/ChubuJERA%20CIC%20Notice%2003%2002%202016_1.pdf.

DOE/FE Evaluation

DOE/FE will review the Statement ³ in accordance with its Procedures for Changes in Control Affecting Applications and Authorizations to Import or Export Natural Gas (CIC Revised Procedures).⁴ Consistent with the CIC Revised Procedures, this Notice addresses only those FLEX proceedings in which final authorizations have been issued to export LNG to non-FTA countries. The affected proceedings include DOE/FE Docket Nos. 10-161-LNG and 11-161-LNG.⁵ If no interested person protests the change in control and DOE takes no action on its own motion, the change in control will be deemed granted 30 days after publication in the Federal Register. If one or more protests are submitted, DOE will review any motions to intervene, protests, and answers, and will issue a determination as to whether the proposed change in control has been demonstrated to render the underlying authorization inconsistent with the public interest.

³ The Statement identifies two other proceedings, FE Docket Nos. 10-60-LNG and 12-06-LNG, in which DOE/FE authorized FLEX to export liquefied natural gas (LNG) to countries with which the United States currently has, or in the future will have, a free trade agreement (FTA) requiring national treatment for trade in natural gas, and with which trade is not prohibited by U.S. law or policy (FTA countries). Consistent with the Revised CIC Procedures, DOE gives immediate effect to these changes. See 79 FR 65542.

⁴ 79 FR 65541 (Nov. 5, 2014).

⁵ The final authorizations issued in the referenced non-FTA proceedings include Freeport LNG Expansion L.P., et al., DOE/FE Order No. 3282-C, FE Docket No. 10-161-LNG, Final Opinion and Order Granting Long-Term Multi-Contract Authorization to Export Liquefied Natural Gas by Vessel from the Freeport LNG Terminal on Quintana Island, Texas to Non-Free Trade Agreement Nations (Nov. 14, 2014); and Freeport LNG Expansion L.P., et al., DOE/FE Order No. 3357-B, FE Docket No. 11-161-LNG, Final Opinion and Order Granting Long-Term Multi-Contract Authorization to Export Liquefied Natural Gas by Vessel from the Freeport LNG Terminal on Quintana Island, Texas to Non-Free Trade Agreement Nations (Nov. 14, 2014).

Public Comment Procedures

Interested persons will be provided 15 days from the date of publication of this Notice in the Federal Register in order to move to intervene, protest, and answer the Statement. Protests, motions to intervene, notices of intervention, and written comments are invited in response to this Notice only as to the proposed change in control described in the Statement.⁶ All protests, comments, motions to intervene, or notices of intervention must meet the requirements specified by DOE's regulations in 10 CFR part 590.

⁶ Intervention, if granted, would constitute intervention only in the change in control portion of these docket proceedings, as described herein.

Filings may be submitted using one of the following methods: (1) Preferred method: Emailing the filing to fergas@hq.doe.gov, with the individual FE Docket Number(s) in the title line, or FLEX Change in Control in the title line to include all applicable dockets in this Notice; (2) mailing an original and three paper copies of the filing to the Office of Regulation and International Engagement at the address listed in ADDRESSES; or (3) hand delivering an original and three paper copies of the filing to the Office of Regulation and International Engagement at the address listed in ADDRESSES. All filings must include a reference to the individual FE Docket Number(s) in the title line, or FLEX Change in Control in the title line to include all applicable dockets in this Notice. PLEASE NOTE: If submitting a filing via email, please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

The Statement and any filed protests, motions to intervene or notice of interventions, and comments are available for inspection and copying in the Office of Regulation and International Engagement docket room, Room 3E-042, 1000 Independence Avenue SW., Washington, DC, 20585. The docket room is open between the hours of 8:00 a.m. and 4:30 p.m., Monday through Friday, except Federal holidays. These documents are also available electronically by going to the following DOE/FE Web address: http://www.fe.doe.gov/programs/gasregulation/index.html.

Issued in Washington, DC, on May 19, 2016.
John A. Anderson,
Director, Office of Regulation and International Engagement, Office of Oil and Natural Gas.

[FR Doc. 2016-12315 Filed 5-25-16; 8:45 am]

BILLING CODE 6450-01-P